ENVIRONMENTAL PROTECTION AGENCY

40 CFR Part 300

[FRL-7384-3]

National Oil and Hazardous Substances Pollution Contingency Plan; National Priorities List Update

AGENCY: Environmental Protection Agency.

ACTION: Notice of deletion of the Standard Steel and Metals Salvage Yard Site from the National Priorities List.

SUMMARY: The U.S. Environmental Protection Agency (EPA), Region 10, announces the deletion of the Standard Steel and Metals Salvage Yard Site which is located in Anchorage, Alaska, from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. EPA and the State of Alaska have determined that the Site poses no significant threat to public health or the environment and, therefore, no further remedial measures pursuant to CERCLA are appropriate.

EFFECTIVE DATE: September 30, 2002.

FOR FURTHER INFORMATION CONTACT: Beverly Gaines, EPA Point of Contact, U.S. Environmental Protection Agency, Region 10, 1200 Sixth Avenue, Mail Stop ECL-110, Seattle, WA 98101, (206) 553-1066.

SUPPLEMENTARY INFORMATION: The site to be deleted from the NPL is: Standard Steel and Metals Salvage Yard Site, Anchorage, Alaska.

A Notice of Intent to Delete for this site was published in the Federal Register on August 14, 2002 (67 FR 52918). The closing date for comments on the Notice of Intent to Delete was September 15, 2002. A comment letter was received after the comment period closed. The commentor opposes EPA's remedy and proposes an alternative remedy using peroxidative treatment. EPA selected its remedy after holding a public comment period between March 18 and April 17, 1996. Pursuant to the National Contingency Plan, EPA selected a stabilization/solidification and containment remedy which is protective of human health and the environment. Because hazardous substances will remain at the site above levels that allow unlimited use and unrestricted exposure, the site will undergo five-year reviews.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede Agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: September 20, 2002.
L. John Iani,
Regional Administrator, Region 10.

For the reasons set out in the preamble, 40 CFR part 300 is amended as follows:

PART 300—[AMENDED]

1. The authority citation for part 300 continues to read as follows:

Authority: 42 U.S.C 9601-9657; 33 U.S.C. 1321(c)(2); E.O. 12777, 56 FR 54757, 3 CFR, 1991 Comp., p.351; E.O. 12580, 52 FR 2923, 3 CFR 1987 Comp., p.193.

Appendix B—[Amended]

2. Table 2 of appendix B to part 300 is amended by removing the entry for “Standard Steel & Metals Salvage Yard (USDOT), Anchorage, AK.”

[FR Doc. 02-24640 Filed 9-27-02; 8:45 am]

BILLING CODE 6560-50-P